DEPARTMENT OF COMMERCE

National Oceanic and Atmospheric Administration

50 CFR Parts 622 and 635

[I.D. 020801A]

RIN 0648-AN83

Fisheries of the Caribbean, Gulf of Mexico, and South Atlantic; Amendment to the Fishery Management Plans of the Gulf of Mexico

AGENCY: National Marine Fisheries Service (NMFS), National Oceanic and Atmospheric Administration (NOAA), Commerce.

ACTION: Notice of availability of a generic amendment to the Gulf of Mexico Fishery Management Council’s fishery management plans for the Gulf of Mexico regarding the Tortugas Marine Reserves; request for comments.

SUMMARY: NMFS announces that the Gulf of Mexico Fishery Management Council (Council) has submitted the Generic Amendment Addressing the Establishment of the Tortugas Marine Reserves in the Fishery Management Plans of the Gulf of Mexico (Tortugas Amendment) for review, approval, and implementation by NMFS. The Tortugas Amendment proposes to establish two marine reserves in the exclusive economic zone (EEZ) in the vicinity of the Dry Tortugas, FL. Within the marine reserves, fishing for any species and anchoring by fishing vessels would be prohibited. The intended effect is to protect and conserve important marine resources.

DATES: Written comments must be received on or before May 7, 2001.

ADDRESSES: Written comments on the Tortugas Amendment must be sent to Michael Barnette, Southeast Regional Office, NMFS, 9721 Executive Center Drive N., St. Petersburg, FL 33702. Comments may also be sent via fax to 727-570-5583. Comments will not be accepted if submitted via e-mail or the Internet.

Requests for copies of the Tortugas Amendment, which includes a regulatory impact review (RIR), an initial regulatory flexibility analysis (IRFA), and a final supplemental environmental impact statement (FSEIS), should be sent to the Gulf of Mexico Fishery Management Council, 3018 U.S. Highway 301 North, Suite 1000, Tampa, FL 33619-2266; phone: 813-228-2815; fax: 813-225-7015; e-mail: gulf.council@noaa.gov.

FOR FURTHER INFORMATION CONTACT: Michael Barnette, NMFS; phone: 727-570-5305; fax: 727-570-5583; e-mail: Michael.Barnette@noaa.gov.

SUPPLEMENTARY INFORMATION: The Magnuson-Stevens Fishery Conservation and Management Act (Magnuson-Stevens Act) requires each Regional Fishery Management Council to submit any fishery management plan (FMP) or amendment to NMFS for review and approval, disapproval, or partial approval. NMFS implements approved FMP or amendment measures by issuing a final rule. The Magnuson-Stevens Act also requires that NMFS, upon receiving an FMP or amendment, immediately publish a document in the Federal Register stating that the FMP or amendment is available for public review and comment.

The Gulf of Mexico fisheries for coastal migratory pelagics, coral and coral reefs, red drum, reef fish, shrimp, spiny lobster, and stone crab are managed under FMPs prepared by the Council and approved and implemented by NMFS. These FMPs were prepared solely by the Council, with the exception of the FMPs for coastal migratory pelagics and spiny lobster that were prepared jointly by the Council and the South Atlantic Fishery Management Council.

The Tortugas Amendment would amend the following FMPs: Fishery Management Plan for Coral and Coral Reefs of the Gulf of Mexico; Fishery Management Plan for the Red Drum Fishery of the Gulf of Mexico; Fishery Management Plan for the Stone Crab Fishery of the Gulf of Mexico; Fishery Management Plan for the Shrimp Fishery of the Gulf of Mexico; Fishery Management Plan for the Reef Fish Resources of the Gulf of Mexico; Fishery Management Plan for Coastal Migratory Pelagic Resources of the Gulf of Mexico and South Atlantic; and Fishery Management Plan for the Spiny Lobster Fishery of the Gulf of Mexico and South Atlantic. All of these FMPs, except the FMPs for spiny lobster and stone crab, are implemented under the authority of the Magnuson-Stevens Act by regulations at 50 CFR part 622. The FMP for spiny lobster is implemented by regulations at 50 CFR part 640; the FMP for stone crab is implemented by regulations at 50 CFR part 654.

The Dry Tortugas are located approximately 70 miles (112 km) west of Key West, a very strategic location for a marine reserve. The Dry Tortugas contain the healthiest coral reefs found in the Florida Keys. Coral pinnacles as high as 40 feet (12 m), with the highest coral cover (over 30 percent) found in the Florida Keys, rise up from the ocean floor. These coral formations are bathed by some of the cleanest waters found in the Florida Keys and occur where the tropical waters of the Caribbean mingle with the more temperate waters of the Gulf of Mexico.

The Tortugas region is unique in its location and in the extent to which oceanographic processes affect the area. The Dry Tortugas play a dynamic role in supporting marine ecosystems throughout south Florida and the Florida Keys. Marine organisms that spawn in the Tortugas area produce larvae that are spread throughout the Keys by a persistent system of ocean eddies and currents. As the larval stages of various species range in duration from hours, e.g., for some coral species, to as much as a year, e.g., for spiny lobster, these eddies and currents provide the retention time in the water column and current pathways necessary for successful recruitment for numerous species (generally, recruitment is the survival of juvenile stages through the period where they mature sufficiently to join the adult population). In addition, the upwelling and convergence of the ocean currents in the Dry Tortugas area act to concentrate food supplies for the larval stages of numerous animal species.

The Tortugas region, relative to the rest of the Florida Keys, appears to have a greater population abundance and larger average individual size of many key species, e.g., groupers, snappers, and lobster. However, throughout the Florida Keys, including the Tortugas region, there appears to be an overfishing problem. Furthermore, the coral resources of the Florida Keys are under significant ecological stress resulting from coastal development impacts, e.g., sedimentation and pollution, and fishing activities, e.g., gear impacts and overfishing effects on fish stocks.

There is a considerable amount of literature on the benefits of marine reserves, such as the proposed Tortugas Marine Reserves. They are designed to protect older, larger fish and, thereby, protect critical spawning stock biomass, intra-specific genetic diversity, population age structure, recruitment supply, and ecosystem balance. Marine reserves are expected to supply adults and larvae to adjacent areas and will probably be most effective in addressing the problem of recruitment overfishing, especially in sedentary species. Marine reserves are believed to be important in maintaining the high abundance of many species of reef fish in certain protected areas worldwide. Existing reserves in the Netherlands Antilles and Barbados show increasing fish stock biomass and individual sizes of sampled reef fish. Expected benefits of the Tortugas Marine Reserves include the following: Establishment of a refuge and replenishment area to ensure continued abundance and diversity of coral reef resources; protection of critical fish spawning stock biomass and recruits from overfishing; physical protection of the coral reef structures; and “spillover” effects wherein organisms, such as fish, move from within to outside the reserve area, thereby providing improved fishing opportunities in the vicinity of the reserve.

The Florida Keys National Marine Sanctuary (FKNMS) is managed under NOAA’s National Ocean Services. FKNMS managers initiated a collaborative effort with the State of Florida, the Dry Tortugas National Park (managed by the U.S. National Park Service), and NMFS to establish the boundaries for two proposed inter-jurisdictional marine reserves known as Tortugas North ecological reserve and Tortugas South ecological reserve. The Tortugas Amendment would amend the aforementioned FMPs to establish the portion of the Tortugas North ecological reserve that falls within the Gulf of Mexico EEZ and to establish the Tortugas South ecological reserve, which resides entirely within the EEZ. The Tortugas North reserve encompasses an area of 120 square nautical miles (nm²); the Tortugas Amendment would establish a 13 nm² portion of this reserve in the EEZ. The Tortugas South reserve encompasses 60 nm² , which includes the Riley’s Hump mutton snapper spawning aggregation site proposed by the Council and approved and implemented by NMFS in 1994.

The Tortugas Amendment proposes that fishing for any species, including Atlantic highly migratory species (Atlantic HMS), be prohibited within these marine reserves. Additionally, anchoring by all fishing vessels would be prohibited within the marine reserves. These fishing and anchoring prohibitions are intended to achieve the maximum benefits (see discussion above) from the two marine reserves over their initially anticipated duration of 10 years.

Under the Magnuson-Stevens Act, NMFS, acting on behalf of the Secretary of Commerce, has full management responsibility for Atlantic HMS. In its Tortugas Amendment, the Council proposed that its fishing and anchoring prohibitions within the reserves apply to Atlantic HMS for several reasons, including significant enforcement considerations as well as overall biological benefits to the marine reserve ecosystem. The U.S. Coast Guard and NMFS advised the Council that unless fishing for all species and anchoring of all fishing vessels was prohibited within the Tortugas Reserves, there was no way to enforce adequately such prohibitions for just those species managed under the Council’s FMPs. Regarding the biological benefits of protecting Atlantic HMS species within the reserves, the region serves as a spawning ground for a variety of Atlantic HMS, including bluefin tuna. The Tortugas region has also been identified under the Fishery Management Plan for Atlantic Tunas, Swordfish, and Sharks as constituting a portion of the essential fish habitat for several tuna species and a variety of shark species. After considering the public comment received on the Tortugas Amendment and on its proposed rule, if NMFS adopts the proposed fishing and anchoring prohibition measures as applied to Atlantic HMS, it would implement such measures through its rulemaking authority for these species pursuant to section 304(g) of the Magnuson-Stevens Act and the regulatory adjustment framework provisions of the Fishery Management Plan for Atlantic Tunas, Swordfish, and Sharks.

The Council proposes that the marine reserves be established for a period of at least 10 years, during which the ecological benefits of the reserves will be evaluated. The prohibition on fishing and anchoring of fishing vessels should minimize human disturbances in the Tortugas reserves and help to restore and maintain their ecological integrity, including a full assemblage of fish, coral, and other benthic invertebrates. The reserves will also create a reference or baseline area for studying human impacts on coral reef ecosystems.

In accordance with the Magnuson-Stevens Act, NMFS is evaluating the proposed rule to determine whether it is consistent with the Tortugas Amendment, the Magnuson-Stevens Act, and other applicable law. If that determination is affirmative, NMFS will publish the proposed rule in the Federal Register for public review and comment.

Comments received by May 7, 2001, whether specifically directed to the Tortugas Amendment or to the proposed rule, will be considered by NMFS in its decision to approve, disapprove, or partially approve the Tortugas Amendment. Comments received after that date will not be considered by NMFS in this decision. All comments received by NMFS on the Tortugas Amendment or the proposed rule during their respective comment periods will be addressed in the final rule.

Authority: 16 U.S.C. 1801 et seq.

Dated: March 1, 2001.
Bruce C. Morehead,
Acting Director, Office of Sustainable Fisheries, National Marine Fisheries Service.

[FR Doc. 01-5557 Filed 3-6-01; 8:45 am]

BILLING CODE 3510-22-S